SMALL BUSINESS ADMINISTRATION

[License No. 05/05-0337]

GMB Mezzanine Capital IV, L.P.; Notice Seeking Exemption Under Section 312 of the Small Business Investment Act, Conflicts of Interest

Notice is hereby given that GMB Mezzanine Capital IV, L.P., 50 South Sixth Street, Suite 1460, Minneapolis, MN 55402, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). GMB Mezzanine Capital IV, L.P. proposes to provide debt and equity security financing to Motion and Flow Control, Inc., 14402 East 33rd Place, Aurora, Colorado 80011.

The financing is brought within the purview of § 107.730(a)(1) of the Regulations because GMB Mezzanine Capital II, L.P. is an Associate of GMB Mezzanine Capital IV, L.P., and will receive proceeds from the refinancing of Motion and Flow Control, Inc.; therefore, this transaction is considered Financing an Associate requiring prior SBA approval.

Notice is hereby given that any interested person may submit written comments on this transaction within fifteen days of the date of this publication to the Associate Administrator, Office of Investment and Innovation, U.S. Small Business Administration, 409 Third Street SW, Washington, DC 20416.

Dated: October 17, 2019.
A. Joseph Shepard,
Associate Administrator for Office of Investment and Innovation.

[FR Doc. 2019-24914 Filed 11-15-19; 8:45 am]

BILLING CODE P